DEPARTMENT OF AGRICULTURE

Forest Service

Notice of New Fee Site; Federal Lands Recreation Enhancement Act (Title VIII, Pub. L. 108-447)

AGENCY: Fishlake National Forest, USDA Forest Service.

ACTION: Notice of new fee site.

SUMMARY: The Fremont River Ranger District of the Fishlake National Forest will begin charging an $8 fee for single family overnight camping at the Elkhorn Campground. There will also be a $4 fee for an extra vehicle. There is presently a fee of $25 to $45, depending on the number of people, for use of the group site at this campground. Overnight camping at other campgrounds on the Fishlake National Forest have shown that people appreciate and enjoy the availability of developed recreation facilities. Funds from the fee charges will be used for the continued operation and maintenance of the Elkhorn Campground.

DATES: Elkhorn Campground will become available for overnight camping on June 15, 2008 (weather permitting).

ADDRESSES: Forest Supervisor, Fishlake National Forest, 115 East, 900 North, Richfield, Utah 84701

FOR FURTHER INFORMATION CONTACT: David C. Bell, Forester, 435-836-2811.

SUPPLEMENTARY INFORMATION: The Federal Recreation Lands Enhancement Act (Title VII, Pub. L. 108-447) directs the Secretary of Agriculture to publish a six month advance notice in the Federal Register whenever new recreation fee areas are established. The Fremont River Ranger District of the Fishlake National Forest currently has several other fee campgrounds. These facilities are located on Thousand Lake Mountain in south central Utah. This area offers significant recreational camping, fishing, hiking, horseback riding, hunting and wildlife viewing opportunities. A market analysis indicates that the $8/per night single family camping fee is both reasonable and acceptable for this sort of unique recreation experience.

Dated: June 6, 2007.
Mary C. Erickson,
Fishlake National Forest Supervisor.

[FR Doc. 07-3283 Filed 7-5-07; 8:45 am]

BILLING CODE 3410-11-M